DEPARTMENT OF LABOR

Employment and Training Administration

Workforce Investment Act; Native American Employment and Training Council

AGENCY: Employment and Training Administration, U. S. Department of Labor.

ACTION: Notice of meeting.

SUMMARY: Pursuant to Section 10(a)(2) of the Federal Advisory Committee Act (FACA) (Pub. L. 92-463), as amended, and Section 166(h)(4) of the Workforce Investment Act (WIA) [29 U.S.C. 2911(h)(4)], notice is hereby given of the next meeting of the Native American Employment and Training Council (Council), as constituted under WIA.

DATES: The meeting will begin at 1:30 p.m. (Eastern Time) on Wednesday, March 2, 2011, and continue until 4:30 p.m. that day. The meeting will reconvene at 9 a.m. on Thursday, March 3, 2011, and adjourn at 4:30 p.m. that day. The period from 2:30 p.m. to 4:30 p.m. on March 2, 2011, will be reserved for participation and presentations by members of the public.

ADDRESSES: The meetings will be held at the U.S. Bureau of Labor Statistics, Postal Square Building, 2 Massachusetts Avenue, NE., Washington, DC 20212.

SUPPLEMENTARY INFORMATION: The meeting will be open to the public. Members of the public not present may submit a written statement on or before March 1, 2011, to be included in the record of the meeting. Statements are to be submitted to Mrs. Evangeline M. Campbell, Designated Federal Official (DFO), U.S. Department of Labor, 200 Constitution Avenue, NW., Room S-4209, Washington, DC 20210. Persons who need special accommodations should contact Mr. Craig Lewis at (202) 693-3384, at least two business days before the meeting. The formal agenda will focus on the following topics: (1) U.S. Department of Labor, Employment and Training Program Year 2011 One Year Training and Employment Guidance Letter; (2) U.S. Department of Labor Tribal Consultation Policy; (3) Native American Employment and Training Council Charter; (4) Transfer of Grants Management Duties to the Regions Proposal; (5) Education Measure Report and Recommendations; (6) Election of Council Chair and Vice-Chair; (7) New Council Member Introduction and Briefing; (8) Council Update; (9) Council Workgroup Reports; and (10) Council Recommendations.

FOR FURTHER INFORMATION CONTACT: Mrs. Campbell, DFO, Indian and Native American Program, Employment and Training Administration, U.S. Department of Labor, Room S-4209, 200 Constitution Avenue, NW., Washington, DC 20210. Telephone number (202) 693-3737 (VOICE) (this is not a toll-free number).

Signed at Washington, DC, this 8th day of February 2011.
Jane Oates,
Assistant Secretary, Employment and Training Administration.

[FR Doc. 2011-3189 Filed 2-11-11; 8:45 am]

BILLING CODE 4510-FR-P